DEPARTMENT OF HEALTH AND HUMAN SERVICES

National Institutes of Health

Submission for OMB Review; 30-Day Comment Request Autism Spectrum Disorder (ASD) Research Portfolio Analysis, NIMH; Correction

AGENCY: National Institutes of Health, HHS.

ACTION: Notice; correction.

SUMMARY: The Department of Health and Human Services, National Institutes of Health published a Notice in the Federal Register on December 5, 2019. That Notice requires a correction in the Supplemental information section.

FOR FURTHER INFORMATION CONTACT: To request more information on the proposed project or to obtain a copy of the data collection plans and instruments, contact: The Office of Autism Research Coordination, NIMH, NIH, Neuroscience Center, 6001 Executive Boulevard, MSC 9663, Room 6184, Bethesda, Maryland 20892 or can email your request, including your address to: iaccpublicinquiries@mail.nih.gov or nimhprapubliccomments@mail.nih.gov or can call Melba O. Rojas, NIMH, NIH at 301-402-0279. Formal requests for additional plans and instruments must be requested in writing.

SUPPLEMENTARY INFORMATION:

Correction

In the Federal Register of December 5, 2019, in FR Doc. 2019-26260, on page 66684, in the Estimated Annualized Burden Hours table; correct the “Number of projects per respondent total” column, to read: “2854”.

Dated: December 5, 2019.
Ekaterini K. Mavrophilipos,
Federal Register Liaison, National Institutes of Health.

[FR Doc. 2019-26631 Filed 12-10-19; 8:45 am]

BILLING CODE 4140-01-P